DEPARTMENT OF HEALTH AND HUMAN SERVICES

National Committee on Vital and Health Statistics: Meeting

Pursuant to the Federal Advisory Committee Act, the Department of Health and Human Services announces the following advisory committee meeting.

Name: National Committee on Vital and Health Statistics (NCVHS) Executive Subcommittee.

Time and Date: 8:00 a.m.-5:00 p.m. EDT, August 18, 2000.

Place: The Harvard Faculty Club, 20 Quincy Street, Cambridge, MA 02138.

Status: Open.

Purpose: This meeting of the Executive Subcommittee will be held as a retreat for Committee planning purposes. Planning issues will include how the Committee might better organize and integrate across priorities, the efficiency and effectiveness of the current Committee structure and meeting schedule, and whether the Committee is appropriately positioned to address new and emerging topics. Plans will also be made for future Committee meetings later in 2000 and in early 2001.

Contact Person for more Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: htt://www.ncvhs.hhs.gov/, where further information will be posted when available.

Dated: August 2, 2000.
James Scanlon,
Director, Division of Data Policy, Office of the Assistant Secretary for Planning and Evaluation.

[FR Doc. 00-20012 Filed 8-7-00; 8:45 am]

BILLING CODE 4151-05-M